FEDERAL HOUSING FINANCE BOARD

[No. 2004-N-6]

Federal Home Loan Bank Members Selected for Community Support Review

AGENCY: Federal Housing Finance Board.

ACTION: Notice.

SUMMARY: The Federal Housing Finance Board (Finance Board) is announcing the Federal Home Loan Bank (Bank) members it has selected for the 2004-05 first quarter review cycle under the Finance Board's community support requirements regulation. This notice also prescribes the deadline by which Bank members selected for review must submit Community Support Statements to the Finance Board.

DATES: Bank members selected for the 2004-05 first quarter review cycle under the Finance Board's community support requirements regulation must submit completed Community Support Statements to the Finance Board on or before June 1, 2004.

ADDRESSES: Bank members selected for the 2004-05 first quarter review cycle under the Finance Board's community support requirements regulation must submit completed Community Support Statements to the Finance Board either by regular mail at the Federal Housing Finance Board, Office of Supervision, Community Investment and Affordable Housing, 1777 F Street, NW., Washington, DC 20006, or by electronic mail at fitzgeralde@fhfb.gov.

FOR FURTHER INFORMATION CONTACT: Emma J. Fitzgerald, Program Analyst, Office of Supervision, Community Investment and Affordable Housing, by telephone at (202) 408-2874, by electronic mail at fitzgeralde@fhfb.gov, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the June 1, 2004 deadline prescribed in this notice. 12 CFR 944.2(b)(1)(ii) and (c). On or before April 30, 2004, each Bank will notify the members in its district that have been selected for the 2004-05 first quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2004-05 first quarter community support review cycle:

Member | City | State
Federal Home Loan Bank of Boston—District 1
Valley Bank | Bristol | Connecticut
The Canaan National Bank | Canaan | Connecticut
Bankers' Bank Northeast | Glastonbury | Connecticut
Advest Bank and Trust Company | Hartford | Connecticut
Litchfield Bancorp | Litchfield | Connecticut
The Milford Bank | Milford | Connecticut
Connex Credit Union | New Haven | Connecticut
NewMil Bank | New Milford | Connecticut
Prime Bank | Orange | Connecticut
Nutmeg State Federal Credit Union | Rocky Hill | Connecticut
National Iron Bank | Salisbury | Connecticut
The First National Bank of Suffield | Suffield | Connecticut
Savings Institute | Willimantic | Connecticut
Mechanics Savings Bank | Auburn | Maine
Pepperell Bank & Trust | Biddeford | Maine
Franklin-Somerset Federal Credit Union | Farmington | Maine
Oxford Federal Credit Union | Mexico | Maine
Penobscot Federal Credit Union | Old Town | Maine
Adams Co-operative Bank | Adams | Massachusetts
Beverly Cooperative Bank | Beverly | Massachusetts
Wainwright Bank & Trust Company | Boston | Massachusetts
Brookline Cooperative Bank | Brookline | Massachusetts
Chelsea-Provident Co-operative Bank | Chelsea | Massachusetts
East Bridgewater Savings Bank | East Bridgewater | Massachusetts
Southern Massachusetts Credit Union | Fairhaven | Massachusetts
Fall River Five Cents Savings Bank | Fall River | Massachusetts
The First National Bank of Ipswich | Ipswich | Massachusetts
Lowell Five Cents Savings Bank | Lowell | Massachusetts
Marlborough Co-Operative Bank | Marlborough | Massachusetts
Century Bank & Trust Company | Medford | Massachusetts
The Needham Co-operative Bank | Needham | Massachusetts
Hoosac Bank | North Adams | Massachusetts
North Brookfield Savings Bank | North Brookfield | Massachusetts
Easton Cooperative Bank | North Easton | Massachusetts
Cape Cod Five Cents Savings Bank | Orleans | Massachusetts
East Boston Savings Bank | Peabody | Massachusetts
Rockland Trust Company | Rockland | Massachusetts
Sharon Credit Union | Sharon | Massachusetts
Cape Cod Bank and Trust Company, N.A | South Yarmouth | Massachusetts
Chart Bank, A Cooperative Bank | Waltham | Massachusetts
Westbank | West Springfield | Massachusetts
UniBank For Savings | Whitinsville | Massachusetts
Williamstown Savings Bank | Williamstown | Massachusetts
Commonwealth National Bank | Worcester | Massachusetts
St. Mary's Bank | Manchester | New Hampshire
Community Guaranty Savings Bank | Plymouth | New Hampshire
Community Bank & Trust Company | Wolfeboro | New Hampshire
Coventry Credit Union | Coventry | Rhode Island
Domestic Bank, FSB | Cranston | Rhode Island
Union Federal Savings Bank | North Providence | Rhode Island
Bank Rhode Island | Providence | Rhode Island
Rhode Island State Employees Credit Union | Providence | Rhode Island
Home Loan and Investment Bank, FSB | Warwick | Rhode Island
Federal Home Loan Bank of New York—District 2
Yardville National Bank | Hamilton Turnpike | New Jersey
The Provident Bank | Jersey City | New Jersey
Morgan Stanley Trust | Jersey City | New Jersey
Hudson United Bank | Mahwah | New Jersey
Two River Community Bank | Middletown | New Jersey
Atlantic Stewardship Bank | Midland Park | New Jersey
First Morris Bank and Trust | Morristown | New Jersey
Red Oak Bank | Morristown | New Jersey
City National Bank of New Jersey | Newark | New Jersey
Bergen Commercial Bank | Paramus | New Jersey
Mon-Oc Federal Credit Union | Toms River | New Jersey
Paragon Federal Credit Union | Washington | New Jersey
First Washington State Bank | Windsor | New Jersey
The Bank | Woodbury | New Jersey
Greater Buffalo Savings Bank | Buffalo | New York
The Canandaigua National Bank and Trust Company | Canandaigua | New York
Chemung Canal Trust Company | Elmira | New York
National Bank of New York City | Flushing | New York
Hudson River Bank & Trust Company | Hudson | New York
Long Island Commercial Bank | Islandia | New York
CFCU Credit Union | Ithaca | New York
Alternatives Federal Credit Union | Ithaca | New York
First National Bank of Jeffersonville | Jeffersonville | New York
Rondout Savings Bank | Kingston | New York
First Niagara Bank | Lockport | New York
State Bank of Long Island | New Hyde Park | New York
Country Bank | New York | New York
Eastbank, N.A | New York | New York
Alpine Capital Bank | New York | New York
PathFinder Bank | Oswego | New York
Rhinebeck Savings Bank | Poughkeepsie | New York
ESL Federal Credit Union | Rochester | New York
Tioga State Bank | Spencer | New York
Tupper Lake National Bank | Tupper Lake | New York
The Warwick Savings Bank | Warwick | New York
New York Community Bank | Westbury | New York
Banco Santander PR | San Juan | Puerto Rico
Federal Home Loan Bank of Pittsburgh—District 3
GMAC Bank | Greenville | Delaware
County Bank | Rehoboth Beach | Delaware
Citizens Bank | Wilmington | Delaware
Chelten Hills Savings Bank | Abington | Pennsylvania
Kishacoquillas Valley National Bank | Belleville | Pennsylvania
Embassy Bank for the Lehigh Valley | Bethlehem | Pennsylvania
County National Bank | Clearfield | Pennsylvania
Citizens Trust Company | Coudersport | Pennsylvania
Downington National Bank | Downington | Pennsylvania
Farmers National Bank of Emlenton | Emlenton | Pennsylvania
First American Bank of PA | Everett | Pennsylvania
Harleysville Savings Bank | Harleysville | Pennsylvania
First National Bank of Pennsylvania | Hermitage | Pennsylvania
Wayne Bank | Honesdale | Pennsylvania
The Honesdale National Bank | Honesdale | Pennsylvania
AmeriServe Financial Bank | Johnstown | Pennsylvania
First CornerStone Bank | King of Prussia | Pennsylvania
American Home Bank, NA | Lancaster | Pennsylvania
Lebanon Valley Farmers Bank | Lebanon | Pennsylvania
Luzerne National Bank | Luzerne | Pennsylvania
Marion Center National Bank | Marion Center | Pennsylvania
First National Bank & Trust Co. of Newtown | Newtown | Pennsylvania
Old Forge Bank | Old Forge | Pennsylvania
Northwood Savings Bank | Philadelphia | Pennsylvania
The First National Bank of Port Allegany | Port Allegany | Pennsylvania
Community First Bank, N.A | Reynoldsville | Pennsylvania
Farmers Building & Savings Bank | Rochester | Pennsylvania
Hamlin Bank and Trust Company | Smethport | Pennsylvania
Quaint Oak Savings Bank | Southampton | Pennsylvania
Earthstar Bank | Southampton | Pennsylvania
TruMark Financial Credit Union | Trevose | Pennsylvania
Eagle National Bank | Upper Darby | Pennsylvania
Bruceton Bank | Bruceton Mills | West Virginia
Mountain Valley Bank, N.A | Elkins | West Virginia
Calhoun County Bank, Inc | Grantsville | West Virginia
Harrison County Bank | Lost Creek | West Virginia
Grant County Bank | Petersburg | West Virginia
Citizens First Bank, Inc | Ravenswood | West Virginia
Union Bank, Inc | Sistersville | West Virginia
First National Bank of St. Mary's | St. Marys | West Virginia
The Terra Alta Bank | Terra Alta | West Virgnia
West Union Bank | West Union | West Virginia
Main Street Bank Corporation | Wheeling | West Virginia
Federal Home Loan Bank of Atlanta—District 4
Peoples Bank of Greensboro | Greensboro | Alabama
Vision Bank | Gulf Shores | Alabama
Redstone Federal Credit Union | Huntsville | Alabama
Corporate America Credit Union | Irondale | Alabama
Capital Bank | Montgomery | Alabama
Cheaha Bank | Oxford | Alabama
The Commercial Bank of Ozark | Ozark | Alabama
Metro Bank | Pell City | Alabama
CB&T Bank of Russell County | Phenix City | Alabama
Citizens Bank & Savings Company | Russellville | Alabama
Alabama Trust Bank, NA | Sylacauga | Alabama
Bay Bank | Theodore | Alabama
Tuscaloosa Federal Family Credit Union | Tuscaloosa | Alabama
The Bank of Tuscaloosa | Tuscaloosa | Alabama
The Farmers & Merchants Bank | Waterloo | Alabama
The Citizens Bank of Winfield | Winfield | Alabama
Adams National Bank | Washington | D.C.
1st National Bank & Trust | Bradenton | Florida
Gold Bank | Bradenton | Florida
The Hernando County Bank | Brooksville | Florida
Drummond Community Bank | Chiefland | Florida
The International Bank | Coral Gables | Florida
Crystal River Bank | Crystal River | Florida
First National Bank of Pasco | Dade City | Florida
1st National Bank of South Florida | Homestead | Florida
Community Bank of Florida | Homestead | Florida
Marine Bank of the Florida Keys | Marathon | Florida
Security Bank, N.A. | Margate | Florida
Fidelity Bank of Florida | Merritt Island | Florida
Coconut Grove Bank | Miami | Florida
Peoples National Bank | Niceville | Florida
Independent National Bank | Ocala | Florida
Enterprise National Bank of Palm Beach | Palm Beach Gardens | Florida
First State Bank | Sarasota | Florida
Prosperity Bank of St. Augustine | St. Augustine | Florida
Republic Bank | St. Petersburg | Florida
United Bank and Trust Company | St. Petersburg | Florida
Premier Bank | Tallahassee | Florida
Guaranty National Bank of Tallahassee | Tallahassee | Florida
Tri-County Bank | Trenton | Florida
First National Bank of Wauchula | Wauchula | Florida
BankFirst | Winter Park | Florida
Adel Banking Company | Adel | Georgia
Heritage Bank of the South | Albany | Georgia
Alma Exchange Bank and Trust | Alma | Georgia
FNB South | Alma | Georgia
NetBank | Alpharetta | Georgia
Citizens Bank of Americus | Americus | Georgia
Athens First Bank and Trust Company | Athens | Georgia
Omni National Bank | Atlanta | Georgia
The Bankers Bank | Atlanta | Georgia
Fidelity Bank | Atlanta | Georgia
Cairo Banking Company | Cairo | Georgia
Georgia Bank and Trust | Calhoun | Georgia
Rabun County Bank | Clayton | Georgia
nbank | Commerce | Georgia
Community Bank and Trust | Cornelia | Georgia
Merchants and Farmers Bank | Donalsonville | Georgia
Bank of Dudley | Dudley | Georgia
Citizens Bank and Trust Company | Eastman | Georgia
First National Bank of Griffin | Griffin | Georgia
McIntosh State Bank | Jackson | Georgia
The First National Bank | Louisville | Georgia
Bank of Madison | Madison | Georgia
Exchange Bank | Milledgeville | Georgia
Bank of Monticello | Monticello | Georgia
American Banking Company | Moultrie | Georgia
Heritage Community Bank | Quitman | Georgia
The Tattnall Bank | Reidsville | Georgia
Bryan Bank and Trust | Richmond Hill | Georgia
Northwest Georgia Bank | Ringgold | Georgia
Rossville Bank | Rossville | Georgia
West Central Georgia Bank | Thomaston | Georgia
First Cherokee State Bank | Woodstock | Georgia
Carrollton Bank | Baltimore | Maryland
FBR National Bank & Trust | Bethesda | Maryland
Frederick County Bank | Frederick | Maryland
Glen Burnie Mutual Savings Bank | Glen Burnie | Maryland
Hebron Savings Bank | Hebron | Maryland
Washington Telephone Federal Credit Union | Kensington | Maryland
First Financial of Maryland FCU | Lutherville | Maryland
Bay National Bank | Lutherville | Maryland
Regal Bank & Trust | Owings Mills | Maryland
The Queenstown Bank of Maryland | Queenstown | Maryland
Blue Ridge Savings Bank, Inc. | Asheville | North Carolina
Harrington Bank, FSB | Chapel Hill | North Carolina
Cardinal State Bank | Durham | North Carolina
Yadkin Valley Bank and Trust Company | Elkin | North Carolina
The Fidelity Bank | Fuquay-Varina | North Carolina
Bank of Granite | Granite Falls | North Carolina
First Carolina Corporate Credit Union | Greensboro | North Carolina
Parkway Bank | Lenoir | North Carolina
BB & T of NC | Lumberton | North Carolina
Sound Banking Company | Morehead City | North Carolina
Morganton Federal Savings & Loan Association | Morganton | North Carolina
Peoples Bank | Newton | North Carolina
FNB Southeast | Reidsville | North Carolina
First Carolina State Bank | Rocky Mount | North Carolina
Wake Forest Federal S&L Association | Wake Forest | North Carolina
Islands Community Bank, NA | Beaufort | South Carolina
The Bank of Camden | Camden | South Carolina
First Federal Savings and Loan Association | Charleston | South Carolina
Crescent Bank | Charleston | South Carolina
South Carolina State Credit Union | Columbia | South Carolina
Greenville First Bank, N.A. | Greenville | South Carolina
Horry County State Bank | Loris | South Carolina
Orangeburg National Bank | Orangeburg | South Carolina
Virginia National Bank | Charlottesville | Virginia
Bank of Hampton Roads | Chesapeake | Virginia
The Old Point National Bank of Phoebus | Hampton | Virginia
The Grayson National Bank | Independence | Virginia
Chesapeake Bank | Kilmarnock | Virginia
Central Virginia Federal Credit Union | Lynchburg | Virginia
Smith River Community Bank, NA | Martinsville | Virginia
1st Service Bank | McLean | Virginia
Hanover Bank | Mechanicsville | Virginia
Southern Community Bank & Trust | Midlothian | Virginia
Newport News Shipbuilding Employees Credit Union, Inc | Newport News | Virginia
Central Virginia Bank | Powhaton | Virginia
The Bank of Richmond, NA | Richmond | Virginia
Virginia Credit Union, Inc | Richmond | Virginia
Member One Federal Credit Union | Roanoke | Virginia
Tech Federal Credit Union | Roanoke | Virginia
Community Bank of Northern Virginia | Sterling | Virginia
Bank@Lantec | Virginia Beach | Virginia
Citizens and Farmers Bank | West Point | Virginia
Federal Home Loan Bank of Cincinnati—District 5
Citizens Deposit Bank of Arlington, Inc. | Arlington | Kentucky
Classic Bank Corporation | Ashland | Kentucky
Peoples Bank & Trust Company of Madison County | Berea | Kentucky
Citizens Bank | Brodhead | Kentucky
Deposit Bank of Carlisle | Carlisle | Kentucky
King Southern Bank | Chaplin | Kentucky
Tri-County National Bank | Corbin | Kentucky
The Farmers National Bank of Danville | Danville | Kentucky
Dixon Bank | Dixon | Kentucky
First Citizens Bank | Elizabethtown | Kentucky
American Founders Bank, Inc. | Frankfort | Kentucky
Farmers Bank & Capital Trust Company, Inc. | Frankfort | Kentucky
Franklin Bank & Trust Company | Franklin | Kentucky
Fort Knox Federal Credit Union | Ft. Knox | Kentucky
First National Bank and Trust Company | Georgetown | Kentucky
The Farmers Bank and Trust Company | Georgetown | Kentucky
Henderson National Bank | Henderson | Kentucky
United Southern Bank | Hopkinsville | Kentucky
Kentucky Banking Centers, Inc. | Horse Cave | Kentucky
Century Bank of Kentucky | Lawrenceburg | Kentucky
First Federal Bank | Lexington | Kentucky
Kentucky Telco Federal Credit Union | Louisville | Kentucky
Members First Federal Credit Union | Louisville | Kentucky
Republic Bank and Trust Company | Louisville | Kentucky
The First National Bank of Mayfield | Mayfield | Kentucky
Jackson County Bank | McKee | Kentucky
The Farmers Bank of Milton | Milton | Kentucky
Morehead National Bank | Morehead | Kentucky
Peoples Bank & Trust Company | Owenton | Kentucky
Springfield State Bank | Springfield | Kentucky
South Central Bank | Tompkinsville | Kentucky
Citizens Deposit Bank & Trust | Vanceburg | Kentucky
East Kentucky Employees Federal Credit Union | Winchester | Kentucky
The Apple Creek Banking Company | Apple Creek | Ohio
Sharefax Credit Union, Inc. | Batavia | Ohio
The First National Bank of Bellevue | Bellevue | Ohio
Monitor Bank | Big Prairie | Ohio
Community First Bank and Trust | Celina | Ohio
Cottage Savings Bank | Cincinnati | Ohio
The Clyde Savings Bank Company | Clyde | Ohio
KEMBA Financial Credit Union, Inc. | Columbus | Ohio
The Huntington National Bank | Columbus | Ohio
The Community Bank | Crooksville | Ohio
Citizens National Bank of Southwestern | Dayton | Ohio
First Federal Savings Bank of Dover | Dover | Ohio
Dover-Phila Federal Credit Union | Dover | Ohio
1st National Community Bank | East Liverpool | Ohio
The Bankers Guarantee Title & Trust Company | Fairlawn | Ohio
The Peoples Bank Inc. | Gambier | Ohio
The Genoa Banking Company | Genoa | Ohio
The Richland Trust Company | Mansfield | Ohio
The Metamora State Bank | Metamora | Ohio
Consumers National Bank | Minerva | Ohio
The Henry County Bank | Napoleon | Ohio
Home FS&LA of Niles | Niles | Ohio
Community One Credit Union of Ohio | North Canton | Ohio
The Osgood State Bank | Osgood | Ohio
The Ottoville Bank Company | Ottoville | Ohio
Somerville National Bank | Somerville | Ohio
Erie Shores Credit Union, Inc. | Toledo | Ohio
Champaign National Bank and Trust | Urbana | Ohio
FSG Bank, NA | Chattanooga | Tennessee
Bank of Cleveland | Cleveland | Tennessee
Citizens Tri-County Bank | Dunlap | Tennessee
Citizens Bank | Elizabethton | Tennessee
Erwin National Bank | Erwin | Tennessee
Andrew Johnson Bank | Greeneville | Tennessee
MemphisFirst Community Bank | Memphis | Tennessee
Union Planters Bank of the Lakeway Area | Morristown | Tennessee
Bank of the South | Mount Juliet | Tennessee
PrimeTrust Bank | Nashville | Tennessee
Insurors Bank of Tennessee | Nashville | Tennessee
The Bank of Nashville | Nashville | Tennessee
Capital Bank & Trust Company | Nashville | Tennessee
The Oakland Deposit Bank | Oakland | Tennessee
Farmers Bank | Parsons | Tennessee
First National Bank of Pulaski | Pulaski | Tennessee
Mountain National Bank | Sevierville | Tennessee
First Century Bank | Tazewell | Tennessee
Federal Home Loan Bank of Indianapolis—District 6
Community State Bank | Avilla | Indiana
Bath State Bank | Bath | Indiana
First Bank of Berne | Berne | Indiana
Monroe Bank | Bloomington | Indiana
United Commerce Bank | Bloomington | Indiana
The Farmers and Merchants Bank | Boswell | Indiana
Community State Bank | Brook | Indiana
The Farmer State Bank | Brookston | Indiana
People's Trust Company | Brookville | Indiana
Republic Bank & Trust Company of Indiana | Clarksville | Indiana
Irwin Union Bank | Columbus | Indiana
The Fountain Trust Company | Covington | Indiana
DeMotte State Bank | DeMotte | Indiana
Elkhart Community Bank | Elkhart | Indiana
The Peoples State Bank | Ellettsville | Indiana
Bank of Evansville, National Association | Evansville | Indiana
Integra Bank | Evansville | Indiana
The Citizens Exchange Bank | Fairmount | Indiana
Michigan Heritage Bank | Farmington Hills | Indiana
Bank of Geneva | Geneva | Indiana
Goshen Community Bank | Goshen | Indiana
Mercantile National Bank of Indiana | Hammond | Indiana
Bippus State Bank | Huntington | Indiana
First Internet Bank of Indiana | Indianapolis | Indiana
Salin Bank & Trust Company | Indianapolis | Indiana
National City Bank of Indiana | Indianapolis | Indiana
The National Bank of Indianapolis | Indianapolis | Indiana
Kentland Bank | Kentland | Indiana
Solidarity Community Federal Credit Union | Kokomo | Indiana
Lafayette Community Bank | Lafayette | Indiana
The Lafayette Life Insurance Company | Lafayette | Indiana
Farmers State Bank | Lanesville | Indiana
American State Bank | Lawrenceburg | Indiana
Peoples Trust Company | Linton | Indiana
State Bank of Lizton | Lizton | Indiana
Citizens Bank | Mooresville | Indiana
Ball State Federal Credit Union | Muncie | Indiana
The Napoleon State Bank | Napoleon | Indiana
Hometown National Bank | New Albany | Indiana
Independence Bank | New Albany | Indiana
Indiana Lawrence Bank | North Manchester | Indiana
Union Bank & Trust Company | North Vernon | Indiana
First National Bank | Portland | Indiana
The Morris Plan Company of Terre Haute, Inc. | Terre Haute | Indiana
Home National Bank of Thorntown | Thorntown | Indiana
Lake City Bank | Warsaw | Indiana
Alden State Bank | Alden | Michigan
Midwest Financial Credit Union | Ann Arbor | Michigan
Northstar Bank | Bad Axe | Michigan
Macomb Schools and Government Credit Union | Clinton Township | Michigan
Home Federal Savings Bank | Detroit | Michigan
First National Bank of America | East Lansing | Michigan
The State Bank of Fenton | Fenton | Michigan
Dort Federal Credit Union | Flint | Michigan
West Michigan National Bank & Trust Company | Frankfort | Michigan
First Bank, Upper Michigan | Gladstone | Michigan
United Bank of Michigan | Grand Rapids | Michigan
Educational Community Credit Union | Kalamazoo | Michigan
Keystone Community Bank | Kalamazoo | Michigan
Communications Services Credit Union | Lansing | Michigan
Lansing Automakers Federal Credit Union | Lansing | Michigan
Chemical Bank & Trust Company | Midland | Michigan
Farmers State Bank of Munith | Munith | Michigan
Muskegon Commerce Bank | Muskegon | Michigan
First General Credit Union | Muskegon | Michigan
Royal Oakland Community Credit Union | Royal Oak | Michigan
Chemical Bank Montcalm | Stanton | Michigan
BestSource Credit Union | Waterford | Michigan
Federal Home Loan Bank of Chicago—District 7
Anchor State Bank | Anchor | Illinois
State Bank of Auburn | Auburn | Illinois
First State Bank of Beardstown | Beardstown | Illinois
Germantown Trust and Savings Bank | Breese | Illinois
The Bank of Carbondale | Carbondale | Illinois
Highland Community Bank | Chicago | Illinois
Home State Bank/National Association | Crystal Lake | Illinois
Farmers State Bank of Danforth | Danforth | Illinois
Durand State Bank | Durand | Illinois
First Community Bank | Elgin | Illinois
Standard Bank and Trust Company | Evergreen Park | Illinois
First Eagle National Bank | Hanover Park | Illinois
Bank of Calhoun County | Hardin | Illinois
The First National Bank of Lacon | Lacon | Illinois
The Farmers Bank of Liberty | Liberty | Illinois
Banterra Bank | Marion | Illinois
Maroa Forsyth Community Bank | Maroa | Illinois
First Mid-Illinois Bank & Trust | Mattoon | Illinois
First State Bank | Mendota | Illinois
Citizens State Bank of Milford | Milford | Illinois
BankOrion | Orion | Illinois
The Citizens National Bank of Paris | Paris | Illinois
South Side Trust & Savings Bank of Peoria | Peoria | Illinois
Bank of Pontiac | Pontiac | Illinois
Princeville State Bank | Princeville | Illinois
The Farmers National Bank of Prophetstown | Prophetstown | Illinois
Lakeland Community Bank | Round Lake Heights | Illinois
Marion County Savings Bank | Salem | Illinois
Bank of Springfield | Springfield | Illinois
First Community State Bank | Staunton | Illinois
First National Bank in Taylorville | Taylorville | Illinois
First National Bank of Waterloo | Waterloo | Illinois
Williamsville State Bank & Trust | Williamsville | Illinois
Hinsbrook Bank and Trust | Willowbrook | Illinois
Citizens Community Federal Credit Union | Altoona | Wisconsin
The Baraboo National Bank | Baraboo | Wisconsin
Union Bank of Blair | Blair | Wisconsin
Great Midwest Bank, S.S.B. | Brookfield | Wisconsin
First National Bank of Eagle River | Eagle River | Wisconsin
Royal Bank | Elroy | Wisconsin
Oak Bank | Fitchburg | Wisconsin
State Bank of Florence | Florence | Wisconsin
Bank of Galesville | Galesville | Wisconsin
First National Bank of Hartford | Hartford | Wisconsin
Blackhawk Credit Union | Janesville | Wisconsin
Bank of Kenosha | Kenosha | Wisconsin
Coulee State Bank | LaCrosse | Wisconsin
Citizens State Bank of Loyal | Loyal | Wisconsin
Bank of Luxemburg | Luxemburg | Wisconsin
First Business Bank | Madison | Wisconsin
CUNA Mutual Insurance Society | Madison | Wisconsin
Columbia Savings and Loan Association | Milwaukee | Wisconsin
Citizens Bank of Mukwonago | Mukwonago | Wisconsin
First State Bank | New London | Wisconsin
S & C Bank | New Richmond | Wisconsin
First Bank Financial Centre | Oconomowoc | Wisconsin
Farmers State Bank | Ridgeland | Wisconsin
River Valley State Bank | Rothschild | Wisconsin
River Bank | Stoddard | Wisconsin
Community Bank | Superior | Wisconsin
First National Bank of Viroqua | Viroqua | Wisconsin
Waldo State Bank | Waldo | Wisconsin
Farmers & Merchants State Bank | Waterloo | Wisconsin
InvestorsBank | Waukesha | Wisconsin
Waukesha State Bank | Waukesha | Wisconsin
The National Bank of Waupun | Waupun | Wisconsin
Marathon Savings Bank | Wausau | Wisconsin
Bank North | Wausaukee | Wisconsin
John O. Melby & Company Bank | Whitehall | Wisconsin
Chippewa Valley Bank | Winter | Wisconsin
Woodford State Bank | Woodford | Wisconsin
Federal Home Loan Bank of Des Moines—District 8
City State Bank | Central City | Iowa
Midwest Heritage Bank | Chariton | Iowa
Peoples Savings Bank | Charles City | Iowa
Great River Bank & Trust | Davenport | Iowa
Iowa State Bank | Des Moines | Iowa
Lee County Bank & Trust, N.A. | Fort Madison | Iowa
Grinnell State Bank | Grinnell | Iowa
Security State Bank | Independence | Iowa
Community First Bank | Keosauqua | Iowa
Pleasantville State Bank | Pleasantville | Iowa
First Federal Bank | Sioux City | Iowa
Northeast Security Bank | Sumner | Iowa
Farmers & Merchants Savings Bank | Waukon | Iowa
Earlham Savings Bank | West Des Moines | Iowa
Liberty Bank, FSB | West Des Moines | Iowa
First Trust and Savings Bank | Wheatland | Iowa
North American State Bank | Belgrade | Minnesota
Bremer Bank National Association | Brainerd | Minnesota
First Security Bank—Canby | Canby | Minnesota
First National Bank of Chaska | Chaska | Minnesota
Republic Bank, Inc. | Duluth | Minnesota
Valley Bank-Dundas | Dundas | Minnesota
Bremer Bank, NA | International Falls | Minnesota
Security State Bank of Lewiston | Lewiston | Minnesota
Minnwest Bank Luverne | Luverne | Minnesota
Premier Bank | Maplewood | Minnesota
Security State Bank of Marine | Marine on St. Croix | Minnesota
Bremer Bank, NA | Marshall | Minnesota
Franklin National Bank of Minneapolis | Minneapolis | Minnesota
Northeast Bank | Minneapolis | Minnesota
First Minnetonka City Bank | Minnetonka | Minnesota
Minnwest Bank Central | Montevideo | Minnesota
Lake Region Bank | New London | Minnesota
United Community Bank | Perham | Minnesota
Farmers & Merchants State Bank | Pierz | Minnesota
Pine Island Bank | Pine Island | Minnesota
First National Bank and Trust | Pipestone | Minnesota
State Bank of Richmond | Richmond | Minnesota
Minnesota First Credit and Savings | Rochester | Minnesota
Pine Country Bank | Royalton | Minnesota
Beacon Bank | Shorewood | Minnesota
Bremer Bank National Association | South St. Paul | Minnesota
Farmers & Merchants State Bank | Springfield | Minnesota
Liberty Savings Bank, fsb | St. Cloud | Minnesota
Capital Bank | St. Paul | Minnesota
First Integrity Bank, National Association | Staples | Minnesota
Central Bank | Stillwater | Minnesota
Northern State Bank of Thief River Falls | Thief River Falls | Minnesota
Community Bank Vernon Center | Vernon Center | Minnesota
Paragon Bank | Wells | Minnesota
State Bank of Wheaton | Wheaton | Minnesota
Bremer Bank N.A. | Willmar | Minnesota
Winona National Bank | Winona | Minnesota
Bank of Advance | Advance | Missouri
Alliant Bank | Boonville | Missouri
Carroll County Savings and Loan Association | Carrollton | Missouri
Enterprise Bank | Clayton | Missouri
First Midwest Bank of Dexter | Dexter | Missouri
Farmers & Merchants Bank of Hale | Hale | Missouri
Farmers & Commercial Bank | Holden | Missouri
Midwest Independent Bank | Jefferson City | Missouri
The Exchange National Bank of Jefferson City | Jefferson City | Missouri
Bank Midwest, N.A. | Kansas City | Missouri
Union Bank | Kansas City | Missouri
First Community Bank | Knob Noster | Missouri
First Community Bank, Missouri | Malden | Missouri
Martinsburg Bank and Trust | Martinsburg | Missouri
Central Bank of Lake of the Ozarks | Osage Beach | Missouri
First Midwest Bank of Poplar Bluff | Poplar Bluff | Missouri
Bank of Rothville | Rothville | Missouri
St. Louis Postal Credit Union | St. Louis | Missouri
Citizens National Bank of Greater St. Louis | St. Louis | Missouri
Anheuser-Busch Employees' Credit Union | St. Louis | Missouri
Jefferson Bank and Trust Company | St. Louis | Missouri
First Community National Bank | Steelville | Missouri
American Sterling Bank | Sugar Creek | Missouri
Bank of Sullivan | Sullivan | Missouri
First Midwest Bank of Carter County | Van Buren | Missouri
Bank of Crocker | Waynesville | Missouri
West Plains Bank & Trust Company | West Plains | Missouri
Bank of Weston | Weston | Missouri
Bank Center First | Bismarck | North Dakota
Bank of North Dakota | Bismarck | North Dakota
CountryBank, USA | Cando | North Dakota
Security First Bank of North Dakota | Center | North Dakota
Choice Financial Group | Grafton | North Dakota
First State Bank of Sharon | Sharon | North Dakota
American State Bank and Trust Co. of Williston | Williston | North Dakota
First National Bank of Philip | Philip | South Dakota
First National Bank | Pierre | South Dakota
The First National Bank in Sioux Falls | Sioux Falls | South Dakota
Federal Home Loan Bank of Dallas—District 9
Union Bank of Benton | Benton | Arkansas
First National Bank of Berryville | Berryville | Arkansas
First National Bank of Izard County | Calico Rock | Arkansas
First Security Bank of Conway | Conway | Arkansas
First National Bank of De Queen | De Queen | Arkansas
The First National Bank of DeWitt | DeWitt | Arkansas
Bank of England | England | Arkansas
First National Bank | Green Forest | Arkansas
Helena National Bank | Helena | Arkansas
First National Bank | Hot Springs | Arkansas
Commercial Bank and Trust | Monticello | Arkansas
First National B&T Co. of Mountain Home | Mountain Home | Arkansas
Chart Bank | Perryville | Arkansas
Simmons First National Bank | Pine Bluff | Arkansas
Bank of Prescott | Prescott | Arkansas
Riverside Bank | Sparkman | Arkansas
First National Bank | Arcadia | Louisiana
Citizens National Bank, N.A | Bossier City | Louisiana
Parish National Bank | Covington | Louisiana
Guaranty Bank & Trust Company of Delhi | Delhi | Louisiana
Catahoula—LaSalle Bank | Jonesville | Louisiana
Progressive National Bank of DeSoto Parish | Mansfield | Louisiana
Bank of Maringuoin | Maringuoin | Louisiana
Louisiana Corporate Credit Union | Metairie | Louisiana
Whitney National Bank | New Orleans | Louisiana
Hibernia National Bank | New Orleans | Louisiana
Guaranty Bank and Trust Company | New Roads | Louisiana
Tensas State Bank | Newellton | Louisiana
Patterson State Bank | Patterson | Louisiana
Iberville Trust and Savings Bank | Plaquemine | Louisiana
Rayne State Bank & Trust Company | Rayne | Louisiana
Teche Bank & Trust Company | St. Martinville | Louisiana
Bank of Sunset and Trust Company | Sunset | Louisiana
Washington State Bank | Washington | Louisiana
Forest Kraft Federal Credit Union | West Monroe | Louisiana
Security Bank of Amory | Amory | Mississippi
Coast Community Bank | Biloxi | Mississippi
Citizens Bank | Columbia | Mississippi
Jefferson Bank | Fayette | Mississippi
First Commercial Bank | Jackson | Mississippi
Bank of Kilmichael | Kilmichael | Mississippi
Peoples Bank | Mendenhall | Mississippi
Bank of Morton | Morton | Mississippi
Merchants and Planters Bank | Raymond | Mississippi
Richton Bank & Trust Company | Richton | Mississippi
Delta Southern Bank | Ruleville | Mississippi
Cornerstone Bank | Senatobia | Mississippi
First State Bank | Waynesboro | Mississippi
First National Bank of Wiggins | Wiggins | Mississippi
Sunrise Bank of Albuquerque | Albuquerque | New Mexico
High Desert State Bank | Albuquerque | New Mexico
Interamerica Bank | Albuquerque | New Mexico
Farmers & Stockmens Bank of Clayton | Clayton | New Mexico
FirstBank, FSB | Clovis | New Mexico
Valley National Bank | Espanola | New Mexico
Lea County State Bank | Hobbs | New Mexico
Bank of the Rio Grande, N.A | Las Cruces | New Mexico
Mesilla Valley Bank | Las Cruces | New Mexico
White Sands Federal Credit Union | Las Cruces | New Mexico
Bank of the Southwest | Roswell | New Mexico
City Bank New Mexico | Ruidoso | New Mexico
Citizens Bank | Tucumcari | New Mexico
Bank of Texas | Austin | Texas
The First National Bank of Bryan | Bryan | Texas
First Bank and Trust of Childress | Childress | Texas
Southwest Bank of Fort Worth | Fort Worth | Texas
HomeTown Bank, N.A | Galveston | Texas
Gruver State Bank | Gruver | Texas
Hull State Bank | Hull | Texas
Industry State Bank | Industry | Texas
The First National Bank of Refugio | Refugio | Texas
Federal Home Loan Bank of Topeka—District 10
Citizens National Bank of Akron | Akron | Colorado
Fitzsimmons Community Federal Credit Union | Aurora | Colorado
Colorado National Bank | Colorado Springs | Colorado
Cheyenne Mountain Bank | Colorado Springs | Colorado
First National Bank of Colorado Springs | Colorado Springs | Colorado
FirstBank of Denver | Denver | Colorado
Denver Community Federal Credit Union | Denver | Colorado
Security Life of Denver Insurance Company | Denver | Colorado
Matrix Capital Bank | Denver | Colorado
Colorado State Bank and Trust | Denver | Colorado
FirstBank of Cherry Creek | Denver | Colorado
Bank of Durango | Durango | Colorado
Millennium Bank | Edwards | Colorado
Trust Company of America | Englewood | Colorado
Farmers State Bank of Fort Morgan | Fort Morgan | Colorado
Home Loan Industrial Bank | Grand Junction | Colorado
Cache Bank & Trust | Greeley | Colorado
First American State Bank | Greenwood Village | Colorado
The Colorado Bank and Trust | La Junta | Colorado
Front Range Bank | Lakewood | Colorado
FirstBank of Colorado | Lakewood | Colorado
Horizon Banks, N.A. | Limon | Colorado
FirstBank of South Jeffco | Littleton | Colorado
First Main Street Bank | Longmont | Colorado
Advantage Bank | Loveland | Colorado
Peak National Bank | Nederland | Colorado
Labette Bank | Altamont | Kansas
Union State Bank | Arkansas City | Kansas
Baxter State Bank | Baxter Springs | Kansas
First National Bank | Derby | Kansas
Pony Express Community Bank | Elwood | Kansas
Citizens State Bank | Gridley | Kansas
The First National Bank of Hutchinson, Kansas | Hutchinson | Kansas
Brotherhood Bank & Trust Company | Kansas City | Kansas
Landmark National Bank | Manhattan | Kansas
Peoples Bank & Trust Company | McPherson | Kansas
First Neodesha Bank | Neodesha | Kansas
Hillcrest Bank | Overland Park | Kansas
Grant County Bank | Ulysses | Kansas
Union State Bank | Uniontown | Kansas
CornerBank, N.A. | Winfield | Kansas
Battle Creek State Bank | Battle Creek | Nebraska
First National Bank | Beemer | Nebraska
Columbus Bank and Trust Company | Columbus | Nebraska
Fremont National Bank | Fremont | Nebraska
Fullerton National Bank | Fullerton | Nebraska
Thayer County Bank | Hebron | Nebraska
Union Bank & Trust Company | Lincoln | Nebraska
McCook National Bank | McCook | Nebraska
Adams Bank & Trust | Ogallala | Nebraska
Mutual First Federal Credit Union | Omaha | Nebraska
Omaha State Bank | Omaha | Nebraska
First Westroads Bank, Inc. | Omaha | Nebraska
Metro Health Services Federal Credit Union | Omaha | Nebraska
First National Bank in Ord | Ord | Nebraska
First National Bank | Schuyler | Nebraska
The Stanton National Bank | Stanton | Nebraska
Farmers & Merchants State Bank of Wayne | Wayne | Nebraska
Home National Bank | Blackwell | Oklahoma
American State Bank | Broken Bow | Oklahoma
First United Bank and Trust | Durant | Oklahoma
Central National Bank and Trust Company | Enid | Oklahoma
The Farmers and Merchants NB of Fairview | Fairview | Oklahoma
Security First National Bank | Hugo | Oklahoma
First Fidelity Bank | Oklahoma City | Oklahoma
Southwestern Bank | Oklahoma City | Oklahoma
Pauls Valley National Bank | Pauls Valley | Oklahoma
Pioneer Bank and Trust | Ponca City | Oklahoma
First State Bank in Temple | Temple | Oklahoma
First Farmers National Bank | Waurika | Oklahoma
Federal Home Loan Bank of San Francisco—District 11
Credit Union West | Phoenix | Arizona
Valley Commerce Bank | Phoenix | Arizona
Sunrise Bank of Arizona | Phoenix | Arizona
Desert Hills Bank | Phoenix | Arizona
Johnson Bank Arizona | Phoenix | Arizona
Arizona Federal Credit Union | Phoenix | Arizona
Copper Star Bank | Scottsdale | Arizona
Stearns Bank Arizona, NA | Scottsdale | Arizona
Auburn Community Bank | Auburn | California
Kern Schools Federal Credit Union | Bakersfield | California
Mission Bank | Bakersfield | California
City National Bank | Beverly Hills | California
First Bank of Beverly Hills | Calabasas | California
Telesis Community Credit Union | Chatsworth | California
Evertrust Bank | City of Industry | California
Pacific Mercantile Bank | Costa Mesa | California
Stockmans Bank | Elk Grove | California
Southwest Community Bank | Encinitas | California
Pacific Community Credit Union | Fullerton | California
Foothill Independent Bank | Glendora | California
Imperial Capital Bank | La Jolla | California
InterBusiness Bank, N.A. | Los Angeles | California
Kinecta Federal Credit Union | Manhattan Beach | California
Gold Country Bank, NA | Marysville | California
Silicon Valley Federal Credit Union | Mountain View | California
Circle Bank | Novato | California
Summit Bank | Oakland | California
Network Bank USA | Ontario | California
Addison Avenue Federal Credit Union | Palo Alto | California
Vineyard National Bank | Rancho Cucamonga | California
Mid Valley Bank | Red Bluff | California
North Valley Bank | Redding | California
The Mechanics Bank | Richmond | California
Riverside County's Credit Union | Riverside | California
The Bank of Hemet | Riverside | California
Bank of Sacramento | Sacramento | California
The Golden One Credit Union | Sacramento | California
Arrowhead Central Credit Union | San Bernardino | California
California Coast Credit Union | San Diego | California
1st Pacific Bank of California | San Diego | California
Trans Pacific National Bank | San Francisco | California
Bank of America | San Francisco | California
Technology Credit Union | San Jose | California
Mission Community Bank, N.A. | San Luis Obispo | California
Borel Bank & Trust Company | San Mateo | California
Westamerica Bank | San Rafael | California
Sterlent Federal Credit Union | San Ramon | California
Montecito Bank & Trust | Santa Barbara | California
Pacific Capital Bank, N.A. | Santa Barbara | California
Hacienda Bank | Santa Maria | California
Santa Clara Valley Bank, N.A. | Santa Paula | California
Central California Bank | Sonora | California
Priority One Credit Union | South Pasadena | California
Community Bank of San Joaquin | Stockton | California
Temecula Valley Bank, NA | Temecula | California
Mission Oaks National Bank | Temecula | California
Honda Federal Credit Union | Torrance | California
Travis Credit Union | Vacaville | California
Bank of the West | Walnut Creek | California
First Financial Credit Union | West Covina | California
Credit Union of Southern California | Whittier | California
Nevada State Bank | Las Vegas | Nevada
Nevada First Bank | Las Vegas | Nevada
BankWest of Nevada | Las Vegas | Nevada
Desert Community Bank | Las Vegas | Nevada
Nevada Security Bank | Reno | Nevada
Federal Home Loan Bank of Seattle—District 12
Bank of Hawaii | Honolulu | Hawaii
D.L. Evans Bank | Burley | Idaho
bankcda | Coeur D'Alene | Idaho
Magic Valley Bank | Twin Falls | Idaho
Citizens Bank and Trust Company | Big Timber | Montana
First Interstate Bank | Billings | Montana
Bank of Bridger | Bridger | Montana
Citizens State Bank of Choteau | Choteau | Montana
First Security Bank of Deer Lodge | Deer Lodge | Montana
State Bank & Trust Company | Dillon | Montana
First National Bank of Fairfield | Fairfield | Montana
First Citizens Bank of Polson | Polson | Montana
1st Bank | Sidney | Montana
Lake County Bank | St. Ignatius | Montana
First State Bank of Thompson Falls | Thompson Falls | Montana
Ruby Valley National Bank | Twin Bridges | Montana
Bank of the Rockies | White Sulphur Springs | Montana
Whitefish Credit Union Association | Whitefish | Montana
OSU Federal Credit Union | Corvallis | Oregon
The Merchants Bank | Gresham | Oregon
Community Bank | Joseph | Oregon
Barnes Banking Company | Kaysville | Utah
Cache Valley Bank | Logan | Utah
Southern Utah Federal Credit | St. George | Utah
Peoples Bank | Lynden | Washington
Peninsula Community Federal Credit Union | Shelton | Washington
Inland Northwest Bank | Spokane | Washington
AmericanWest Bank | Spokane | Washington
Sound Credit Union | Tacoma | Washington
Clark County School Employees Credit Union | Vancouver | Washington
NCW Community Bank | Wenatchee | Washington
Shoshone First Bank | Cody | Wyoming

II. Public Comments

To encourage the submission of public comments on the community support performance of Bank members, on or before April 30, 2004, each Bank will notify its Advisory Council and nonprofit housing developers, community groups, and other interested parties in its district of the members selected for community support review in the 2004-05 first quarter review cycle. 12 CFR 944.2(b)(2)(ii). In reviewing a member for community support compliance, the Finance Board will consider any public comments it has received concerning the member. 12 CFR 944.2(d). To ensure consideration by the Finance Board, comments concerning the community support performance of members selected for the 2004-05 first quarter review cycle must be delivered to the Finance Board on or before the April 30, 2004 deadline for submission of Community Support Statements.

Dated: March 18, 2004.
John Harry Jorgenson,
General Counsel.

[FR Doc. 04-6478 Filed 3-23-04; 8:45 am]

BILLING CODE 6725-01-P